ENVIRONMENTAL PROTECTION AGENCY

40 CFR Part 60

[EPA-HQ-OAR-2024-0358; FRL-12031-03-OAR]

RIN 2060-AW35

Reconsideration of Standards of Performance for New, Reconstructed, and Modified Sources and Emissions Guidelines for Existing Sources: Oil and Natural Gas Sector Climate Review; Correction

AGENCY: Environmental Protection Agency (EPA).

ACTION: Proposed rule; correction.

SUMMARY: The Environmental Protection Agency (EPA) is modifying proposed amendments to the New Source Performance Standards and Emission Guidelines for Existing Sources for the Crude Oil and Natural Gas Source Category in response to petitions for reconsideration. This action corrects information collection estimates in the January 15, 2025 notice of proposed rulemaking.

DATES: Comments on this proposed correction must be received by March 3, 2025.

You may send comments, identified by Docket ID No. EPA-HQ-OAR-2024-0358, by any of the following methods:

• Federal eRulemaking Portal: https://www.regulations.gov (our preferred method). Follow the online instructions for submitting comments.

• Email: a-and-r-docket@epa.gov. Include Docket ID No. EPA-HQ-OAR-2024-0358 in the subject line of the message.

• Mail: U.S. Environmental Protection Agency, EPA Docket Center, Docket ID No. EPA-HQ-OAR-2024-0358, Mail Code 28221T, 1200 Pennsylvania Avenue NW, Washington, DC 20460.

• Hand/Courier Delivery: EPA Docket Center, WJC West Building, Room 3334, 1301 Constitution Avenue NW, Washington, DC 20004. The Docket Center's hours of operation are 8:30 a.m.-4:30 p.m., Monday-Friday (except Federal Holidays).

Instructions: All submissions received must include the Docket ID No. for this rulemaking. Comments received may be posted without change to https://www.regulations.gov, including any personal information provided.

FOR FURTHER INFORMATION CONTACT: Frank Benjamin-Eze, Sector Policies and Programs Division (E143-05), Office of Air Quality Planning and Standards, U.S. Environmental Protection Agency, 109 T.W. Alexander Drive P.O. Box 12055 RTP, North Carolina 27711; telephone number: (919) 541-3753; and email address: benjamineze.frank@epa.gov. Additional questions may be directed to the following email address: O&GMethaneRule@epa.gov.

SUPPLEMENTARY INFORMATION: On January 15, 2025, EPA published a notice of proposed rulemaking (NPRM) entitled “Reconsideration of Standards of Performance for New, Reconstructed, and Modified Sources and Emissions Guidelines for Existing Sources: Oil and Natural Gas Sector Climate Review” (RIN 2060-AW35) (90 FR 3734). EPA revises section VI.B. (Paperwork Reduction Act) of the January 15, 2025, NPRM as described below.

Correction

In FR 2024-31227, starting on page 3734 in the Federal Register of January 15, 2025, on page 3751, starting in the first column, section VI.B. is corrected to read as follows:

B. Paperwork Reduction Act (PRA)

The information collection activities in this proposed rule have been submitted for approval to the Office of Management and Budget (OMB) under the PRA. The Information Collection Request (ICR) document that the EPA prepared has been assigned EPA ICR number 2523.08 and is being submitted under OMB Control Number 2060-0761. You can find a copy of the ICR in the docket for this proposed rule, and it is briefly summarized here.

The information collection activities for NSPS OOOOb and EG OOOOc were previously approved by OMB under the PRA as of June 28, 2024.

The EPA has revised the approved information collection request (ICR) to include small changes to incorporate EPA's proposed recordkeeping and reporting to indicate whether the flare or enclosed combustion device receives inert gases or other streams which may lower the NHV of the combined stream as proposed in section III.B of this preamble. The EPA estimates an average of 48 respondents will be affected by this proposed requirement over the three-year period (2023-2025). The average annual burden for the recordkeeping and reporting requirements for these owners and operators is estimated at 83 person-hours, with an average annual cost of $4,374 over the three-year period.

The EPA also revised the approved ICR to include burden estimates for the maintenance of records that EPA is soliciting comment on. Specifically, the EPA includes burden estimates in the revised ICR for the records and annual reporting that would be required if EPA were to allow for the use of the associated gas extended flaring allowance under “exigent circumstances” as specified in section III.A of this preamble. The incremental increase in burden that would be associated with these recordkeeping and reporting requirements relative to the baseline is estimated at 2 hours per event annually over the three-year period (2024-2026) at an average annual cost of $120 per flaring event over the three-year period. The occurrence of flaring that could potentially be claimed due to “exigent circumstances” is unknown. However, we expect that a maximum of 16 percent of flaring events could potentially require an owner or operator to need to extend flaring beyond 48 hours due to “exigent circumstances”. The burden associated with the two proposed reconsideration items under this action minimally affect the ICR burden estimated for compliance with EG OOOOc. The annual burden for this proposed additional collection of information for the States would be less than 1 percent.

Respondents/affected entities: Oil and natural gas operators and owners.

Respondent's obligation to respond: Mandatory (CAA section 114, 42 U.S.C. 7414(a)).

Estimated number of respondents: 48.

Frequency of response: Varies depending on affected facility.¹

¹ The specific frequency for each information collection activity within this request is shown in tables 1a through 1d of the Supporting Statement in the public docket.

Total estimated burden: 169 hours (per year). Burden is defined at 5 CFR 1320.3(b).

Total estimated cost: $15,444 (per year), which includes $6,576 in capital or operation and maintenance costs.

An agency may not conduct or sponsor, and a person is not required to respond to, a collection of information unless it displays a currently valid OMB control number. The OMB control numbers for the EPA's regulations in 40 CFR are listed in 40 CFR part 9.

Submit your comments on the Agency's need for this information, the accuracy of the provided burden estimates and any suggested methods for minimizing respondent burden to the EPA using the docket identified at the beginning of this proposed rule. The EPA will respond to any ICR-related comments in the final rule. You may also send your ICR-related comments to OMB's Office of Information and Regulatory Affairs using the interface at www.reginfo.gov/public/do/PRAMain. Find this particular information collection by selecting “Currently under Review—Open for Public Comments” or by using the search function. OMB must receive comments no later than February 18, 2025.

Joseph Goffman,
Assistant Administrator.

[FR Doc. 2025-01091 Filed 1-15-25; 11:15 am]

BILLING CODE 6560-50-P